DEPARTMENT OF COMMERCE

Foreign-Trade Zones Board

[Order No. 2047]

Expansion of Foreign-Trade Zone 84 Under Alternative Site Framework Houston, Texas

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board adopted the alternative site framework (ASF) (15 CFR Sec. 400.2(c)) as an option for the establishment or reorganization of zones;

Whereas, the Port of Houston Authority, grantee of Foreign-Trade Zone 84, submitted an application to the Board (FTZ Docket B-66-2015, docketed October 6, 2015, amended October 17, 2017) for authority to expand FTZ 84 under the ASF to include a new magnet site located in Hitchcock, Texas, adjacent to the Houston Customs and Border Protection port of entry;

Whereas, notice inviting public comment was given in the Federal Register (80 FR 61358, October 13, 2015; 82 FR 52265, November 13, 2017) and the application has been processed pursuant to the FTZ Act and the Board's regulations; and,

Whereas, the Board adopts the findings and recommendations of the examiner's report, and finds that the requirements of the FTZ Act and the Board's regulations are satisfied;

Now, therefore, the Board hereby orders:

The application to expand FTZ 84 under the ASF is approved, subject to the FTZ Act and the Board's regulations, including Section 400.13, to the Board's standard 2,000-acre activation limit for the zone, and to an ASF sunset provision for magnet sites that would terminate authority for Site 51 if not activated within five years from the month of approval.

Dated: February 28, 2018.
Christian B. Marsh,
Deputy Assistant Secretary for Enforcement and Compliance, performing the non-exclusive functions and duties of the Assistant Secretary for Enforcement and Compliance, Alternate Chairman, Foreign-Trade Zones Board.

[FR Doc. 2018-04502 Filed 3-5-18; 8:45 am]

BILLING CODE 3510-DS-P